DEPARTMENT OF ENERGY

Federal Energy Regulatory Commission

Notice of FERC Staff Attendance at the SPP-ITO Louisville Gas & Electric/Kentucky Utilities Stakeholder Meeting

The Federal Energy Regulatory Commission hereby gives notice that members of its staff may attend the meeting noted below. Their attendance is part of the Commission's ongoing outreach efforts.

SPP-ITO Louisville Gas & Electric/Kentucky Utilities Stakeholder Meeting

May 15, 2012 (8:30 a.m.-6 p.m.)

This meeting will be held at the Hyatt Regency Louisville, 320 W. Jefferson, Louisville, KY 40202.

The discussions may address matters at issue in the following proceedings:

Docket No. ER12-1357-000—Louisville Gas & Electric Company

Docket No. ER12-1697-000—Louisville Gas & Electric Company

Docket No. ER12-1732-000—Louisville Gas & Electric Company

These meetings are open to the public.

For more information, contact Peter Nagler, Office of Energy Market Regulation, Federal Energy Regulatory Commission at (202) 502-6083 or peter.nagler@ferc.gov.

Dated: May 10, 2012.
Kimberly D. Bose,
Secretary.

[FR Doc. 2012-11827 Filed 5-15-12; 8:45 am]

BILLING CODE 6717-01-P